DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Scale and Catch Weighing Requirements.

OMB Control Number: 0648-0330.

Form Number(s): NA.

Type of Request: Regular submission (renewal of a currently approved information collection).

Number of Respondents: 61.

Average Hours per Response: 21 hours for scale type evaluation; 45 minutes for records for daily flow scale tests; 45 minutes for records for daily automatic hopper scale tests; 1 minute for printed output, at-sea scales; 6 minutes for at-sea inspection request; 2 hours for at-sea scale approval report/sticker; 2 hours for observer sampling station inspection request; 1 hour for video monitoring system; 2 hours for bin monitoring inspection request; 2 minutes to notify observer of scale tests; 5 minutes to notify observer of offload schedule for BSAI pollock; 16 hours for crab catch monitoring plan; 40 hours for inshore catch monitoring and control plan (CMCP); 5 minutes for inshore CMCP inspection request; 1 minute for Alaska State scale printed output; and 8 hours for inshore CMCP addendum.

Burden Hours: 6,548.

Needs and Uses: The National Marine Fisheries Service (NMFS) scale and catch weighing requirements address performance standards designed to ensure that all catch delivered to the processor is accurately weighed and accounted for. As part of Fishery Management Plans developed under the authority of the Magnuson-Stevens Fishery Conservation and Management Act (16 U.S.C. 1801 et seq.), scale and catch-weighing monitoring is required for Western Alaska Community Development Quota Program (CDQ) catcher/processors, American Fisheries Act (AFA) catcher/processors, AFA motherships, AFA shoreside processors and stationary floating processors, non-AFA trawl catcher/processors regulated under the annual Groundfish Retention Standard, and Crab Rationalization crab catcher/processors and Registered Crab Receivers.

NMFS has identified three primary objectives for monitoring catch. First, monitoring must ensure independent verification of catch weight, species composition, and location data for every delivery by a catcher vessel or every pot by a catcher/processor. Second, all catch must be weighed accurately using NMFS-approved scales to determine the weight of total catch. Third, the system must provide a verifiable record of the weight of each delivery. In addition, operators of these vessels must ensure that each haul is observed by a NMFS-approved observer for verification that all fish are weighed. To effectively manage fisheries, NMFS must have data that will provide reliable independent estimates of the total catch.

The catch weighing and monitoring system developed by NMFS for catcher/processors and motherships is based on the vessel meeting a series of design criteria. Because of the wide variations in factory layout for inshore processors, NMFS requires a performance-based catch monitoring system for inshore processors.

Affected Public: Business or other for-profit organizations.

Frequency: Annually, daily during fishing time, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 20, 2010.
Gwellnar Banks,
Management Analyst, Office of the Chief Information Officer.

[FR Doc. 2010-21183 Filed 8-25-10; 8:45 am]

BILLING CODE 3510-22-P